DEPARTMENT OF HEALTH AND HUMAN SERVICES

Centers for Disease Control and Prevention

[60Day-23-23AH; Docket No. CDC-2022-0125]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Community Health Workers for COVID Response and Resilient Communities (CCR) National Evaluation. This data collection will assess the activities implemented by the 68 recipients of the CDC-RFA-DP21-2109 CCR NOFO (CCR award recipients).

DATES: CDC must receive written comments on or before December 20, 2022.

ADDRESSES: You may submit comments, identified by Docket No. CDC-2022-0125 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Community Health Workers for COVID Response and Resilient Communities (CCR) National Evaluation—New—National Center for Chronic Disease Prevention and Health Promotion (NCCDPHP), Centers for Disease Control and Prevention (CDC).

Background and Brief Description

CDC is requesting a New Information Collection Request titled Community Health Workers for COVID Response and Resilient Communities (CCR) National Evaluation. In 2021, CDC funded DP21-2109, “Community Health Workers for COVID Response and Resilient Communities (CCR)”. DP21-2109 funds 68 CCR recipients across the United States to train and deploy community health workers (CHWs) to support COVID-19 response efforts and to build and strengthen community resilience to fight COVID-19 through addressing existing health disparities. Thirty-two of the 68 recipients were funded for Component A, Capacity Building, which focuses on building capacity among CHWs, and 36 recipients are funded for Component B, Implementation Ready, which focuses on enhancing and expanding existing CHW efforts. DP21-2109 is funded for a three-year period, from September 2021 through August 2024.

CDC also funded CDC-RFA-DP21-2110, “Community Health Workers for COVID Response and Resilient Communities (CCR)—Evaluation and Technical Assistance” (CCR-ETA recipients) at the same time the agency funded DP21-2109. Two recipients were funded to design and conduct the national evaluation of DP21-2109 CCR and will lead the information collection described in this request.

The CCR National Evaluation aims to collect consistent, systematic information from the 68 CDC-RFA-DP21-2109 award recipients through two primary data collection efforts: (1) a CCR recipient survey; and (2) a survey of Community Health Workers (CHWs) funded through CCR. The CCR recipient survey will collect information about program management, organizational infrastructure, CHW implementation practices, populations of focus served by CCR funded efforts, non-CDC resources supporting the program, and other aspects of program implementation. The CHW survey will collect information about CHW roles, integration into community-based and care COVID response teams, core competency training, supervision, implementation activities, and compensation. The surveys will be administered by the CCR-ETA award recipients. Both surveys will be available in English and Spanish.

The goal of this data collection is to assess the activities implemented by the 68 recipients of the CDC-RFA-DP21-2109 CCR NOFO (CCR award recipients), as part of the three CCR core strategies (i.e., CHW training, deployment, and engagement with COVID-19 response teams) and the intended outcomes of these activities on the CCR populations of focus. CDC will use resulting information to describe the implementation of CCR at the national level, inform future community-based and CHW-led COVID response programs, and, in conjunction with secondary data sources, assess some important health outcomes, including vaccination rates among some populations of focus.

CDC requests OMB approval for an estimated 578 annual burden hours. There are no costs to respondents other than their time to participate.

Estimated Annualized Burden Hours
Type of respondents | Form name | Number of respondents | Number of responses per respondent | Average burden per response (in hours) | Total burden hours
CDC-RFA-DP21-2109 CCR recipients | CCR Recipient Survey | 68 | 1 | 25/60 | 28
CCR CHWs | CCR CHW Survey | 1,100 | 1 | 30/60 | 550
Total |  |  |  |  | 578

Jeffrey M. Zirger,
Lead, Information Collection Review Office, Office of Scientific Integrity, Office of Science, Centers for Disease Control and Prevention.

[FR Doc. 2022-22929 Filed 10-20-22; 8:45 am]

BILLING CODE 4163-18-P